DEPARTMENT OF ENERGY

Federal Energy Regulatory Commission

[Docket No. RP03-299-001]

Dominion Cove Point LNG, LP.; Notice of Filing

April 3, 2003.

Take notice that on March 31, 2003, Dominion Cove Point LNG, LP (Cove Point) tendered for filing workpapers supporting the calculation of Cove Point's retention percentages for the annual period beginning May 1,2003.

Cove Point states that the tariff sheet sets forth the restatement and adjustment to its retainage percentages for both the peaking services and transportation services, to go into effect May 1, 2003.

Cove Point states that copies of the filing are being mailed to its affected customers and interested State Commissions.

Any person desiring to protest said filing should file a protest with the Federal Energy Regulatory Commission, 888 First Street, NE., Washington, DC 20426, in accordance with Section 385.211 of the Commission's Rules and Regulations. All such protests must be filed on or before the comment date. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 10, 2003.

Magalie R. Salas,
Secretary.

[FR Doc. 03-8774 Filed 4-9-03; 8:45 am]

BILLING CODE 6717-01-P